EXPORT-IMPORT BANK

Economic Impact Policy

This notice is to inform the public that the Export-Import Bank of the United States has received an application for a $63 million loan guarantee to support the export of approximately $74 million in U.S. semiconductor manufacturing equipment to a dedicated foundry in China. The U.S. exports will enable the dedicated foundry to increase existing 300mm (non-DRAM) production capacity of logic semiconductors by approximately 9,000 wafers per month. Available information indicates that this new foreign production will be consumed globally. Interested parties may submit comments on this transaction by email to economic.impact@exim.gov or by mail to 811 Vermont Avenue NW., Room 442, Washington, DC 20571, within 14 days of the date this notice appears in the Federal Register.

Koro Nuri,
Deputy General Counsel (Acting).

[FR Doc. 2013-14840 Filed 6-20-13; 8:45 am]

BILLING CODE 6690-01-P